DEPARTMENT OF THE INTERIOR

National Park Service

[NPS-WASO-NAGPRA-NPS0039599; PPWOCRADN0-PCU00RP14.R50000]

Notice of Inventory Completion: Grand Rapids Public Museum, Grand Rapids, MI

AGENCY: National Park Service, Interior.

ACTION: Notice.

SUMMARY: In accordance with the Native American Graves Protection and Repatriation Act (NAGPRA), the Grand Rapids Public Museum has completed an inventory of human remains and has determined that there is a cultural affiliation between the human remains and Indian Tribes or Native Hawaiian organizations in this notice.

DATES: Repatriation of the human remains in this notice may occur on or after April 18, 2025.

ADDRESSES: Alex Forist, Grand Rapids Public Museum, 272 Pearl Street NW, Grand Rapids, MI 49504, telephone (616) 929-1809, email aforist@grpm.org.

SUPPLEMENTARY INFORMATION: This notice is published as part of the National Park Service's administrative responsibilities under NAGPRA. The determinations in this notice are the sole responsibility of the Grand Rapids Public Museum and additional information on the determinations in this notice, including the results of consultation, can be found in its inventory or related records. The National Park Service is not responsible for the determinations in this notice.

Abstract of Information Available

Human remains representing, at least, eight individuals have been identified. No associated funerary objects are present. According to the Grand Rapids Public Museum's records, these ancestral remains are the human scalp locks of at least four individuals and navel amulets of four individuals.

The first scalp lock was purchased by the Grand Rapids Public Museum (previously called the Kent Scientific Institute) from G.A. VanLopik (b.1873-d.1964) of Zeeland, Michigan. He displayed his collection at the Kent Scientific Institute around 1911 and in September 1912, Grand Rapids Public Museum purchased a substantial number of Great Plains objects from VanLopik. A museum record listed these scalp locks alongside garments and weapons accumulated by VanLopik in the American West during his residence in South Dakota.

The second scalp lock was described in museum records as scalp locks that were part of the Harry Moorman Memorial Collection. Harry A. Moorman (b. 1889-d. 1947) was an employee of the Grand Rapids Public Museum in the 1910s. There are no details on where the locks were obtained.

The third scalp lock is held in a circular-shaped holder made of leather with multi-colored beads. The GRPM donor records state these were: “Given to Elijah Mead of New Boston, Ill., by Chief Little Crow in 1862” believed to be Mdewakanton Dakota Chief Little Crow III (b. c.1810-d. July 3, 1863). At an unknown date the scalp lock and holder were obtained by Lynn Munger (b. 1918-d. 2017) an antiquities dealer from Steuben County, Indiana who stated they were from the Howard Collection of Rock Island, Illinois. Dr. Ruth Herrick (b.1895-d.1974) of Lowell, Michigan purchased them in 1970 from Munger. In 1974, the Grand Rapids Public Museum acquired these from Ruth Herrick by bequest.

The fourth scalp lock is attached to a war club and is noted in the GRPM records as being from the Northern Plains. It was donated to GRPM by R.A. O'Donald of Grand Rapids, Michigan in 1952 who donated several Native American cultural objects from the Midwestern United States.

The four navel amulets are beaded pouches that each contain the preserved umbilical cord of a child. The navel amulet is sewn in the shape of a turtle for girls and a lizard for boys. These are geographically associated with Native American Plains cultures and used as a protective charm throughout a child's life and usually buried with them upon their death.

There are two turtle-shaped navel amulets representing two individuals acquired from G.A. VanLopik (b.1873-d.1964) of Zeeland, Michigan in 1905. One is described as Sioux and the other Cheyenne. He displayed his collection at the Kent Scientific Institute around 1911 and in September 1912, Grand Rapids Public Museum purchased a substantial number of additional Great Plains objects from VanLopik. He had a residence in South Dakota.

The third turtle-shaped navel amulet represents one individual and was donated to GRPM by R.A. O'Donald of Grand Rapids, Michigan in 1952 who donated several Native American cultural objects from the Midwestern United States.

The fourth is a lizard-shaped navel amulet representing one individual that was donated by Dr. Ruth Herrick (b.1895-d.1974) of Lowell, Michigan. Museum records describe it as Sioux. In 1974, the Grand Rapids Public Museum acquired these from Ruth Herrick by bequest.

Cultural Affiliation

Based on the information available and the results of consultation, cultural affiliation is reasonably identified by the geographical location or acquisition history of the human remains.

Determinations

The Grand Rapids Public Museum has determined that:

• The human remains described in this notice represent the physical remains of a minimum of eight individuals of Native American ancestry.

• There is a connection between the human remains described in this notice and the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe; Omaha Tribe of Nebraska; Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Standing Rock Sioux Tribe of North & South Dakota; Three Affiliated Tribes of the Fort Berthold Reservation, North Dakota; Upper Sioux Community, Minnesota; Winnebago Tribe of Nebraska; and the Yankton Sioux Tribe of South Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 18, 2025. If competing requests for repatriation are received, the Grand Rapids Public Museum must determine the most appropriate requestor prior to repatriation. Requests for joint repatriation of the human remains are considered a single request and not competing requests. The Grand Rapids Public Museum is responsible for sending a copy of this notice to the Indian Tribes and Native Hawaiian organizations identified in this notice.

Authority: Native American Graves Protection and Repatriation Act, 25 U.S.C. 3003, and the implementing regulations, 43 CFR 10.10.

Dated: February 25, 2025.
Melanie O'Brien,
Manager, National NAGPRA Program.

[FR Doc. 2025-04617 Filed 3-18-25; 8:45 am]

BILLING CODE 4312-52-P